OVERSEAS PRIVATE INVESTMENT CORPORATION

[OPIC-252, OMB 3420-0036]

Submission for OMB Review; Comments Request

AGENCY: Overseas Private Investment Corporation (OPIC).

ACTION: Notice and request for comments.

SUMMARY: Under the provisions of the Paperwork Reduction Act, agencies are required to publish a Notice in the Federal Register notifying the public that the agency is renewing an existing information collection form for OMB review and approval and requests public review and comment on the submission. Comments are being solicited on the need for the information; the accuracy of OPIC's burden estimate; the quality, practical utility, and clarity of the information to be collected; and ways to minimize reporting the burden, including automated collected techniques and uses of other forms of technology.

DATES: Comments must be received within sixty (60) calendar days of publication of this Notice.

ADDRESSES: Mail all comments and requests for copies of the subject form to OPIC's Agency Submitting Officer: James Bobbitt, Overseas Private Investment Corporation, 1100 New York Avenue NW., Washington, DC 20527. See SUPPLEMENTARY INFORMATION for other information about filing.

FOR FURTHER INFORMATION CONTACT: OPIC Agency Submitting Officer: James Bobbitt, (202) 336-8558.

SUPPLEMENTARY INFORMATION: All mailed comments and requests for copies of the subject form should include form number OPIC-252 on both the envelope and in the subject line of the letter. Electronic comments and requests for copies of the subject form may be sent to James.Bobbitt@opic.gov, subject line OPIC-252.

Summary Form Under Review

Type of Request: Extension without change of a currently approved information collection.

Title: U.S. Effects Screening Questionnaire.

Form Number: OPIC-252.

Frequency of Use: One per investor per project per year (as needed) and OPIC-supported financial intermediaries (as required by finance agreement or insurance contract).

Type of Respondents: Business or other institutions; individuals.

Standard Industrial Classification Codes: All.

Description of Affected Public: U.S. companies or citizens investing overseas.

Reporting Hours: 200 (2 hours per form).

Number of Responses: 100 per year.

Federal Cost: $15,276.

Authority for Information Collection: Sections 231 (k)-(m) of the Foreign Assistance Act of 1961, as amended.

Abstract (Needs and Uses): The U.S. Effects Screening Questionnaire is used to identify potential negative impacts on the U.S. economy and employment which could result from the investment. This form is submitted prior to a formal OPIC application or as required by OPIC-supported financial intermediaries. Title VI of the Foreign Assistance Act of 1961, as amended, (codified as 22 U.S.C. 2191 et seq.) prohibits OPIC from supporting investments that are likely to cause the loss of U.S. jobs, or that have performance requirements that may reduce substantially the positive trade benefits likely to accrue to the U.S. from the investment.

Dated: September 18, 2017.
Nichole Skoyles,
Administrative Counsel, Department of Legal Affairs.

[FR Doc. 2017-20124 Filed 9-20-17; 8:45 am]

BILLING CODE 3210-01-P